DEPARTMENT OF HEALTH AND HUMAN SERVICES

Centers for Disease Control and Prevention

[Announcement Number 00066]

Using Private Provider Partnerships To Strengthen the Immunization Message; Notice of Availability of Funds; Amendment

A notice announcing the availability of Fiscal Year 2000 funds to fund a cooperative agreement program with national private provider organizations which was published in the Federal Register on May 1, 2000, [Vol. 65, No. 84, Pages 25334-25336]. The notice is amended as follows:

On page 25335, Third Column, under Section F. Submission and Deadline, the submission due date is revised to read on or before July 18, 2000.

Dated: June 2, 2000.
John L. Williams,
Director, Procurement and Grants Office, Centers for Disease Control and Prevention (CDC).

[FR Doc. 00-14426 Filed 6-7-00; 8:45 am]

BILLING CODE 4163-18-P